Title 3—

The President

Proclamation 8419 of September 17, 2009

National POW/MIA Recognition Day, 2009

By the President of the United States of America

A Proclamation

Our Nation maintains a solemn commitment to leave no service member behind. Our men and women in uniform uphold this pledge every day, and our country further upholds it as we honor every man and woman who serves, particularly those taken as prisoners of war or missing in action. We will never cease in our mission to bring America’s missing service members home; we will never forget the sacrifices they made to keep this Nation free; and we will forever honor their memory. On National POW/MIA Recognition Day, we pay tribute to the American men and women who have not returned from the battlefield, and we express profound gratitude to those who returned only after facing unimaginable hardship on our behalf. Today, we also remember the families of our prisoners of war and those missing in action and honor the sacrifices they have made.

Every day, Americans are working around the world to identify and recover the remains of our fallen heroes. It is a promise made, and a promise that will be kept. Although their location may be unknown, we will not waver in our commitment to see they are reunited with the land they so valiantly defended.

For those veterans who returned home after being declared Missing in Action or having been imprisoned by the enemy, we honor their service, their sacrifice, and their courage. In distant lands, and under wretched and torturous conditions, these men and women endured. Faced with such tremendous adversity, they embody the power of the human spirit—sustaining themselves with hope and faith.

On September 18, 2009, the stark black and white banner symbolizing America’s Missing in Action and Prisoners of War will be flown over the White House, the Capitol, the Departments of State, Defense, and Veterans Affairs, the Selective Service System Headquarters, the World War II Memorial, the Korean War Veterans Memorial, the Vietnam Veterans Memorial, United States post offices, national cemeteries, and other locations across our country. It is a powerful reminder that our Nation will never cease in our commitment to honor those who have paid so high a price in its service.

NOW, THEREFORE, I, BARACK OBAMA, President of the United States of America, by virtue of the authority vested in me by the Constitution and the laws of the United States, do hereby proclaim September 18, 2009, as National POW/MIA Recognition Day, and I urge all Americans to observe this day of honor and remembrance with appropriate ceremonies and activities.

IN WITNESS WHEREOF, I have hereunto set my hand this seventeenth day of September, in the year of our Lord two thousand nine, and of the Independence of the United States of America the two hundred and thirty-fourth.

[FR Doc. E9-23006

Filed 9-21-09; 11:15 am]

Billing code 3195-W9-P